Proclamation 8882 of October 5, 2012

Columbus Day, 2012

By the President of the United States of America

A Proclamation

As dawn broke over the Atlantic on October 12, 1492, a perilous 10-week journey across an ocean gave way to encounters and events that would dramatically shape the course of history. Today, we recall the courage and the innovative spirit that carried Christopher Columbus and his crew from a Spanish port to North America, and we celebrate our heritage as a people born of many histories and traditions.

When the explorers laid anchor in the Bahamas, they met indigenous peoples who had inhabited the Western hemisphere for millennia. As we reflect on the tragic burdens tribal communities bore in the years that followed, let us commemorate the many contributions they have made to the American experience, and let us continue to strengthen the ties that bind us today.

In the centuries since that fateful October day in 1492, countless pioneering Americans have summoned the same spirit of discovery that drove Christopher Columbus when he cast off from Palos, Spain, to pursue the unknown. Engineers and entrepreneurs, sailors and scientists, explorers of the physical world and chroniclers of the human spirit—all have worked to broaden our understanding of the time and space we live in and who we are as a people. On this 520th anniversary of Columbus's expedition to the West, let us press forward with renewed determination toward tomorrow's new frontiers.

As a native of Genoa, Italy, Christopher Columbus also inspired generations of Italian immigrants to follow in his footsteps. Today, we take time to celebrate the innumerable contributions that generations of Italian Americans have made to our country. Throughout 2013, Italy will also commemorate this rich heritage and the enduring bonds between our countries with the Year of Italian Culture in the United States, which Americans will join in celebrating.

In commemoration of Christopher Columbus's historic voyage 520 years ago, the Congress, by joint resolution of April 30, 1934, and modified in 1968 (36 U.S.C. 107), as amended, has requested the President proclaim the second Monday of October of each year as “Columbus Day.”

NOW, THEREFORE, I, BARACK OBAMA, President of the United States of America, do hereby proclaim October 8, 2012, as Columbus Day. I call upon the people of the United States to observe this day with appropriate ceremonies and activities. I also direct that the flag of the United States be displayed on all public buildings on the appointed day in honor of our diverse history and all who have contributed to shaping this Nation.

IN WITNESS WHEREOF, I have hereunto set my hand this fifth day of October, in the year of our Lord two thousand twelve, and of the Independence of the United States of America the two hundred and thirty-seventh.

[FR Doc. 2012-25229

Filed 10-11-12; 8:45 am]

Billing code 3295-F3